DEPARTMENT OF ENERGY

Federal Energy Regulatory Commission

[Docket Nos. ER00-188-000, ER00-213-000 and EL00-22-000]

PSI Energy, Inc.; Cincinnati Gas & Electric Company; Informal Settlement Conference

February 28, 2000.

Take notice that an informal settlement conference will be convened in this proceeding on March 13, 2000, at 1 p.m., in Room 3M-2B and on March 14, 2000, at 10:00 a.m., in Room 3M-3, at the offices of the Federal Energy Regulatory Commission, 888 First Street, NE, Washington, DC 20426, for the purpose of exploring the possible settlement of the above referenced docket.

Any party, as defined by 18 CFR 385.102(c), or any participant as defined in 18 CFR 385.102(b), is invited to attend. Persons wishing to become a party must move to intervene and receive intervenor status pursuant to the Commission's regulations (18 CFR 385.214).

For additional information, contact Joel Cockrell at (202) 208-1184 or Anja M. Clark at (202) 208-2034.

David P. Boergers,
Secretary.

[FR Doc. 00-5117 Filed 3-3-00; 8:45 am]

BILLING CODE 6717-01-M